DEPARTMENT OF JUSTICE

Notice of Lodging of Consent Decree Under the Oil Pollution Act and the Federal Water Pollution Control Act

In accordance with Departmental policy, 28 CFR 50.7, notice is hereby given that on August 1, 2006, a proposed Consent Decree (“Decree”) in United States v. ConocoPhillips Company, Civil Action No. 06-CV-195-J was lodged with the United States District Court for the District of Wyoming.

The Decree resolves the United States' claims against ConocoPhillips Company (“Conoco”) under Section 1002 of the Oil Pollution Act of 1990 (“OPA”), 33 U.S.C. 2702, and Section 311 of the Federal Water Pollution Control Act, more commonly known as the Clean Water Act (“CWA”), 33 U.S.C. 1321, for past response costs incurred at the Glenrock Oil Seep Site outside Glenrock, Wyoming. The Decree requires Conoco to pay the United States $1,037,500 and to release any claims it might have (1) against the Oil Spill Liability Trust Fund relating to the Site or (2) arising out of response actions at the Site for which past costs were incurred.

The Department of Justice will receive for a period of thirty (30) days from the date of this publication comments relating to the Decree. Comments should be addressed to the Assistant Attorney General, Environment and Natural Resources Division, P.O. Box 7611, U.S. Department of Justice, Washington, DC 20044-7611, and should refer to United States v. ConocoPhillips Company, D.J. Ref. 90-5-1-1-08459.

The Decree may be examined at the Office of the United States Attorney, 2120 Capitol Ave., 4th Floor, Cheyenne, Wyoming 82001. During the public comment period, the Decree, may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.50 payable to the U.S. Treasury.

Robert D. Brook,
Assistant Chief, Environmental Enforcement Section, Environment and Natural Resources Division.

[FR Doc. 06-6944 Filed 8-15-06; 8:45 am]

BILLING CODE 4410-15-M